DEPARTMENT OF THE INTERIOR

[201D0102DM, DS6CS00000, DLSN00000.000000, DX6CS25]; OMB Control No. 1093-NEW]

Agency Information Collection Activities; Submission for OMB Review; Comment Request; Youth Conservation Corps Application and Medical History

AGENCY: Office of the Secretary, Interior.

ACTION: Notice of information collection; request for comment.

SUMMARY: In accordance with the Paperwork Reduction Act of 1995, we, the Department of the Interior (DOI) are proposing a new information collection.

DATES: Interested persons are invited to submit comments on or before September 21, 2020.

ADDRESSES: Send your comments and suggestions on the information collection requirements to the Desk Officer for the Department of the Interior at OMB-OIRA at (202) 395-5806 (fax) or OIRA_Submission@omb.eop.gov (email). Please provide a copy of your comments to Jeffrey Parrillo, Departmental Information Collection Clearance Officer, 1849 C Street NW, Washington, DC 20240; or by email to DOI-PRA@ios.doi.gov. Please reference OMB Control Number 1093-YCC in the subject line of your comments.

FOR FURTHER INFORMATION CONTACT: To request additional information about this ICR, contact Jeffrey Parrillo, Departmental Information Collection Clearance Officer, 1849 C Street NW, Washington, DC 20240; or by email to DOI-PRA@ios.doi.gov or by telephone at 202-208-7072. Individuals who are hearing or speech impaired may call the Federal Relay Service at 1-800-877-8339 for TTY assistance. You may also view the ICR at http://www.reginfo.gov/public/do/PRAMain.

SUPPLEMENTARY INFORMATION: In accordance with the Paperwork Reduction Act (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 31, 2020 (85 FR 5691). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: We are requesting review and approval from OMB of a new ICR associated with the Youth Conservation Corps (YCC) application process to comply with the requirements of section 3506(c)(2)(A) of the PRA. The approval of the YCC application and medical history forms is essential to ensuring completion of agencies' conservation work on public lands. Without OMB approval, collection of applications would not begin until well into the hiring season, resulting in delays of critical conservation projects, some of which are necessary to ensure the safety of visitors to public lands.

Under the Youth Conservation Corps Act of August 13, 1970, as amended (U.S. 18701-1706), the U.S. Department of Interior provides seasonal employment for eligible youth 15 through 18 years old. The Youth Conservation Corps stresses three important objectives:

1. Accomplish needed conservation work on public lands;

2. Provide gainful employment for 15 to 18 year-old males and females from all social, economic, ethnic, and racial backgrounds; and

3. Foster, on the part of the 15 through 18 year-old youth, an understanding and appreciation of the Nation's natural resources and heritage.

Youths seeking training and employment with the Youth Conservation Corps must complete the following new common forms included in this clearance request: DI-4014, “Youth Conservation Corps Application” and DI-4015, “Youth Conservation Corps Medical History.” The applicants' parents or guardians must sign both forms. The application and medical history forms are evaluated by participating agencies to determine the eligibility of each youth for employment with the Youth Conservation Corps. Potential and actual agencies that may use the common forms included in this collection include:

• U.S. Fish and Wildlife Service (Interior); and,

• National Park Service (Interior); and,

• Other Federal Departments and Agencies.

We collect the following information via common form DI-4014, “Youth Conservation Corps (YCC) Application”:

• Basic contact information such as name, mailing address, telephone numbers, email address, and parent/guardian contact information;

• Gender;

• Date of birth and age;

• Certification of ability to apply for/provide social security number;

• Citizenship or permanent residency documentation;

• Work permit information;

• Desired work location;

• Where they learned about the program;

• Understanding of the conditions of job/role; and,

• Why they want to enroll in a YCC program.

We collect the following information via common form DI-4015, “Youth Conservation Corps Medical History” form to certify the youth's physical fitness to work in the seasonal employment program:

• Contact information;

• Age;

• date of birth;

• gender;

• emergency contact information;

• parent or guardian's contact information and signature;

• Medical insurance information;

• Medical history including vaccination history;

• Previous and current illnesses or conditions that may affect ability to perform certain tasks;

• Primary language;

• Ethnic background (optional);

• Exercise currently undertaken; and,

• Swimming ability.

Title of Collection: Youth Conservation Corps Application and Medical History.

OMB Control Number: 1093-New.

Form Numbers: DI-4014, “Youth Conservation Corps Application”, and DI-4015, “Youth Conservation Corps Medical History.”

Type of Review: New.

Respondents/Affected Public: Youth 15 through 18 years old seeking seasonal employment with the above-named agencies through the YCC Program. Please note that if an applicant is under the age of 18; a parent/guardian may respond for the youth.

Total Estimated Number of Annual Respondents: 11,409 (8,599 respondents completing the application forms and 2,810 respondents completing the medical history forms).

Total Estimated Number of Annual Responses: 11,409 (8,599 applications and 2,810 medical history forms).

Estimated Completion Time per Response: 25 minutes for the application form and 14 minutes for the medical history form.

Total Estimated Number of Annual Burden Hours: 4,239 hours (3,583 hours (rounded) for application forms and 656 hours (rounded) for medical history forms).

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2020-18328 Filed 8-20-20; 8:45 am]

BILLING CODE 4334-63-P